DEPARTMENT OF THE TREASURY

Office of Foreign Assets Control

Blocking of Persons and Property Under the Foreign Narcotics Kingpin Designation Act

AGENCY: Office of Foreign Assets Control, Department of the Treasury.

ACTION: Notice.

SUMMARY: The U.S. Department of the Treasury's Office of Foreign Assets Control (OFAC) is publishing the names of eleven persons and one entity whose property and interests in property are blocked pursuant to the Foreign Narcotics Kingpin Designation Act (Kingpin Act).

DATES: OFAC's actions described in this notice were effective on May 24, 2017.

FOR FURTHER INFORMATION CONTACT: OFAC: Associate Director for Global Targeting, tel.: 202-622-2420; Assistant Director for Licensing, tel.: 202-622-2480, Assistant Director for Regulatory Affairs, tel.: 202-622-4855, Assistant Director for Sanctions Compliance & Evaluation, tel.: 202-622-2490; or the Department of the Treasury's Office of the General Counsel: Office of the Chief Counsel (Foreign Assets Control), tel.: 202-622-2410 (not toll free numbers).

SUPPLEMENTARY INFORMATION:

Electronic Availability

The list of Specially Designated Nationals and Blocked Persons (SDN List) and additional information concerning OFAC sanctions programs are available on OFAC's Web site (http://www.treasury.gov/ofac).

Notice of OFAC Actions

On May 24, 2017 OFAC's Acting Director determined that the property and interests in property of the following persons are blocked pursuant to section 805(b) of the Kingpin Act and placed them on the SDN List.

Individuals

1. BARRAZA ACEVES, Jose Carlos (Latin: BARRAZA ACEVES, José Carlos) (a.k.a. “Luis 2525”), Mexico; DOB 06 Dec 1982; POB Guasave, Sinaloa, Mexico; nationality Mexico; Gender Male; R.F.C. BAAC821206RV9 (Mexico); C.U.R.P. BAAC821206HSLRCR09 (Mexico) (individual) [SDNTK] (Linked To: RUELAS TORRES DRUG TRAFFICKING ORGANIZATION). Designated pursuant to section 805(b)(2) of the Kingpin Act, 21 U.S.C. 1904(b)(2) for materially assisting in, or providing services in support of, the international narcotics trafficking activities of the RUELAS TORRES DRUG TRAFFICKING ORGANIZATION. Also designated pursuant to section 805(b)(3) of the Kingpin Act, 21 U.S.C. 1904(b)(3), for being directed by, or acting for or on behalf of, the RUELAS TORRES DRUG TRAFFICKING ORGANIZATION.

2. ESPINOZA RODRIGUEZ, Maria de Jesus (Latin: ESPINOZA RODRÍGUEZ, María de Jesús), Mexico; DOB 30 Aug 1980; POB Sinaloa, Sinaloa, Mexico; nationality Mexico; Gender Female; R.F.C. EIRJ900830781 (Mexico); C.U.R.P. EIRJ900830MSLSDS06 (Mexico) (individual) [SDNTK] (Linked To: RUELAS TORRES DRUG TRAFFICKING ORGANIZATION). Designated pursuant to section 805(b)(2) of the Kingpin Act, 21 U.S.C. 1904(b)(2), for materially assisting in, or providing financial support for or to, or providing services in support of, the international narcotics trafficking activities of the RUELAS TORRES DRUG TRAFFICKING ORGANIZATION. Also designated pursuant to section 805(b)(3) of the Kingpin Act, 21 U.S.C. 1904(b)(3), being directed by, or acting for or on behalf of, the RUELAS TORRES DRUG TRAFFICKING ORGANIZATION.

3. LUGO LEON, Toribio Alberto (Latin: LUGO LEÓN, Toribio Alberto), Mexico; DOB 26 Aug 1986; POB Sinaloa, Sinaloa, Mexico; citizen Mexico; Gender Male; C.U.R.P. LULT860826HSLGNR06 (Mexico); RFC LULT8608269R2 (Mexico) (individual) [SDNTK] (Linked To: RUELAS TORRES DRUG TRAFFICKING ORGANIZATION). Designated pursuant to section 805(b)(2) of the Kingpin Act, 21 U.S.C. 1904(b)(2), for materially assisting in, or providing goods or services in support of, the international narcotics trafficking activities of the RUELAS TORRES DRUG TRAFFICKING ORGANIZATION. Also designated pursuant to section 805(b)(3) of the Kingpin Act, 21 U.S.C. 1904(b)(3), being directed by, or acting for or on behalf of, the RUELAS TORRES DRUG TRAFFICKING ORGANIZATION.

4. MONDACA AVILA, Sigi Alfredo (Latin: MONDACA ÁVILA, Sigi Alfredo), Mexico; DOB 09 Jan 1985; POB Sinaloa, Sinaloa, Mexico; nationality Mexico; citizen Mexico; Gender Male; C.U.R.P. MOAS850109HSLNVG09 (Mexico); RFC MOAS850109DN7 (Mexico) (individual) [SDNTK] (Linked To: RUELAS TORRES DRUG TRAFFICKING ORGANIZATION). Designated pursuant to section 805(b)(2) of the Kingpin Act, 21 U.S.C. 1904(b)(2), for materially assisting in, or providing services in support of, the international narcotics trafficking activities of the RUELAS TORRES DRUG TRAFFICKING ORGANIZATION. Also designated pursuant to section 805(b)(3) of the Kingpin Act, 21 U.S.C. 1904(b)(3), being directed by, or acting for or on behalf of, the RUELAS TORRES DRUG TRAFFICKING ORGANIZATION.

5. RIVERA SANDOVAL, Hector Librado (Latin: RIVERA SANDOVAL, Héctor Librado), La Playita, Sinaloa, Sinaloa, Mexico; DOB 03 Jun 1982; POB Sinaloa, Sinaloa, Mexico; nationality Mexico; Gender Male; C.U.R.P. RISH820603HSLVNC07 (Mexico); RFC RISH820603V75 (Mexico) (individual) [SDNTK] (Linked To: RUELAS TORRES DRUG TRAFFICKING ORGANIZATION). Designated pursuant to section 805(b)(2) of the Kingpin Act, 21 U.S.C. 1904(b)(2), for materially assisting in, or providing financial support for or to, or providing services in support of, the international narcotics trafficking activities of the RUELAS TORRES DRUG TRAFFICKING ORGANIZATION. Also designated pursuant to section 805(b)(3) of the Kingpin Act, 21 U.S.C. 1904(b)(3), being directed by, or acting for or on behalf of, the RUELAS TORRES DRUG TRAFFICKING ORGANIZATION.

6. RUELAS AVILA, Jesus Angel (Latin: RUELAS ÁVILA, Jesús Ángel), C 14 S/N, Loc Genaro Estrada, Sinaloa, Sinaloa 81960, Mexico; DOB 01 Nov 1988; POB Sinaloa, Sinaloa, Mexico; citizen Mexico; Gender Male; C.U.R.P. RUAJ881101HSLLVS01 (Mexico); RFC RUAJ881101824 (Mexico); I.F.E. RLAVJS88110125H400 (Mexico) (individual) [SDNTK] (Linked To: RUELAS TORRES DRUG TRAFFICKING ORGANIZATION). Designated pursuant to section 805(b)(2) of the Kingpin Act, 21 U.S.C. 1904(b)(2), for materially assisting in, or providing services in support of, the international narcotics trafficking activities of the RUELAS TORRES DRUG TRAFFICKING ORGANIZATION. Also designated pursuant to section 805(b)(3) of the Kingpin Act, 21 U.S.C. 1904(b)(3), being directed by, or acting for or on behalf of, the RUELAS TORRES DRUG TRAFFICKING ORGANIZATION.

7. RUELAS AVILA, Jose Luis (Latin: RUELAS ÁVILA, José Luis), C 14 S/N, Loc Genaro Estrada, Sinaloa, Sinaloa 81960, Mexico; DOB 11 Mar 1981; POB Sinaloa, Sinaloa, Mexico; nationality Mexico; Gender Male; R.F.C. RUAL810311933 (Mexico); C.U.R.P. RUAL810311HSLLVS02 (Mexico); I.F.E. RLAVLS81031125H800 (Mexico) (individual) [SDNTK] (Linked To: RUELAS TORRES DRUG TRAFFICKING ORGANIZATION). Designated pursuant to section 805(b)(2) of the Kingpin Act, 21 U.S.C. 1904(b)(2), for materially assisting in, or providing services in support of, the international narcotics trafficking activities of the RUELAS TORRES DRUG TRAFFICKING ORGANIZATION. Also designated pursuant to section 805(b)(3) of the Kingpin Act, 21 U.S.C. 1904(b)(3), being directed by, or acting for or on behalf of, the RUELAS TORRES DRUG TRAFFICKING ORGANIZATION.

8. RUELAS AVILA, Joel Efren (Latin: RUELAS ÁVILA, Joel Efren), Calle 10 Sin Numero, Localidad Genaro Estrada, Sinaloa, Mexico; DOB 20 Sep 1978; POB Guasave, Sinaloa, Mexico; nationality Mexico; Gender Male; R.F.C. RUAJ780920C10 (Mexico); C.U.R.P. RUAJ780920HSLLVL02 (Mexico) (individual) [SDNTK] (Linked To: RUELAS TORRES DRUG TRAFFICKING ORGANIZATION). Designated pursuant to section 805(b)(2) of the Kingpin Act, 21 U.S.C. 1904(b)(2), for materially assisting in, or providing financial support for or to, or providing goods or services in support of, the international narcotics trafficking activities of the RUELAS TORRES DRUG TRAFFICKING ORGANIZATION and Jose Luis RUELAS TORRES. Also designated pursuant to section 805(b)(3) of the Kingpin Act, 21 U.S.C. 1904(b)(3), being directed by, or acting for or on behalf of, the RUELAS TORRES DRUG TRAFFICKING ORGANIZATION and Jose Luis RUELAS TORRES.

9. RUELAS AVILA, Leobardo (Latin: RUELAS ÁVILA, Leobardo), Mexico; DOB 12 Mar 1976; POB Guasave, Sinaloa, Mexico; nationality Mexico; Gender Male; R.F.C. RUAL7603123I0 (Mexico); C.U.R.P. RUAL760312HSLLVB06 (Mexico) (individual) [SDNTK] (Linked To: RUELAS TORRES DRUG TRAFFICKING ORGANIZATION). Designated pursuant to section 805(b)(2) of the Kingpin Act, 21 U.S.C. 1904(b)(2), for materially assisting in, or providing services in support of, the international narcotics trafficking activities of the RUELAS TORRES DRUG TRAFFICKING ORGANIZATION. Also designated pursuant to section 805(b)(3) of the Kingpin Act, 21 U.S.C. 1904(b)(3), being directed by, or acting for or on behalf of, the RUELAS TORRES DRUG TRAFFICKING ORGANIZATION.

10. RUELAS TORRES, Jose Luis (Latin: RUELAS TORRES, José Luis), P 112, Genaro Estrada, Sinaloa, Mexico; DOB 10 Sep 1953; POB Choix, Sinaloa, Mexico; nationality Mexico; Gender Male; R.F.C. RUTL5309103B6 (Mexico); C.U.R.P. RUTL530910HSLLRS07 (Mexico) (individual) [SDNTK] (Linked To: RUELAS TORRES DRUG TRAFFICKING ORGANIZATION). Identified pursuant to section 805(b)(1) of the Kingpin Act, 21 U.S.C. 1904(b)(1) as a significant foreign narcotics trafficker.

11. RUELAS TORRES, Gilberto, Mexico; DOB 05 May 1966; POB Guasave, Sinaloa, Mexico; nationality Mexico; Gender Male; R.F.C. RUTG660505CH4 (Mexico); C.U.R.P. RUTG660505HSLLRL02 (Mexico) (individual) [SDNTK] (Linked To: RUELAS TORRES DRUG TRAFFICKING ORGANIZATION). Designated pursuant to section 805(b)(2) of the Kingpin Act, 21 U.S.C. 1904(b)(2), for materially assisting in, or providing services in support of, the international narcotics trafficking activities of the RUELAS TORRES DRUG TRAFFICKING ORGANIZATION. Also designated pursuant to section 805(b)(3) of the Kingpin Act, 21 U.S.C. 1904(b)(3), being directed by, or acting for or on behalf of, the RUELAS TORRES DRUG TRAFFICKING ORGANIZATION.

Entity

1. RUELAS TORRES DRUG TRAFFICKING ORGANIZATION, Sinaloa, Mexico [SDNTK]. Identified pursuant to section 805(b)(1) of the Kingpin Act, 21 U.S.C. 1904(b)(1) as a significant foreign narcotics trafficker.

Dated: May 24, 2017.
Andrea M. Gacki,
Acting Director, Office of Foreign Assets Control.

[FR Doc. 2017-20432 Filed 9-22-17; 8:45 am]

BILLING CODE 4810-AL-P